DEPARTMENT OF THE TREASURY

Office of Thrift Supervision

[AC-3: OTS Nos. H-3721 and 05635]

Fidelity Bankshares, Inc., West Palm Beach, Florida; Approval of Conversion Application

Notice is hereby given that on March 15, 2001, the Managing Director, Office of Supervision, Office of Thrift Supervision, or his designee, acting pursuant to delegated authority, approved the application of Fidelity Bankshares, Inc., West Palm Beach, Florida, to convert to the stock form of organization. Copies of the application are available for inspection at the Dissemination Branch, Office of Thrift Supervision 1700 G Street, NW., Washington, DC 20552, and the Southeast Regional Office, Office of Thrift Supervision, 1475 Peachtree Street, NE, Atlanta, GA 30309.

Dated: March 19, 2001.
By the Office of Thrift Supervision.
Nadine Y. Washington,
Corporate Secretary.

[FR Doc. 01-7149 Filed 3-21-01; 8:45 am]

BILLING CODE 6720-01-M